NATIONAL AERONAUTICS AND SPACE ADMINISTRATION

[Notice: (15-110)]

NASA Aerospace Safety Advisory Panel; Meeting

AGENCY: National Aeronautics and Space Administration (NASA).

ACTION: Notice of Meeting.

SUMMARY: In accordance with the Federal Advisory Committee Act, Public Law 92-463, as amended, the National Aeronautics and Space Administration announces a forthcoming meeting of the Aerospace Safety Advisory Panel.

DATES: Monday, December 14, 2015, 3:30 p.m. to 3:45 p.m., Eastern Standard Time.

FOR FURTHER INFORMATION CONTACT: Ms. Carol Hamilton, Aerospace Safety Advisory Panel Interim Executive Director, NASA Headquarters, Washington, DC 20546, (202) 358-1857, or email at carol.j.hamilton@nasa.gov.

SUPPLEMENTARY INFORMATION: The Aerospace Safety Advisory Panel (ASAP) will hold a brief meeting via teleconference. This discussion is pursuant to carrying out its statutory duties for which the Panel reviews, identifies, evaluates, and advises on those program activities, systems, procedures, and management activities that can contribute to program risk. Priority is given to those programs that involve the safety of human flight. The agenda will include:

• Discussion on possible ASAP Recommendation(s) for the 2015 ASAP Annual Report.

This meeting is open to the public telephonically. Any interested person may call the USA toll free conference call number (800) 857-5746; passcode 4124668. Attendees will be required to give their name and affiliation at the beginning of the teleconference. Note: please “mute” your telephone. It is imperative that the meeting be held on this date to accommodate the scheduling priorities of the key participants.

Patricia D. Rausch,
Advisory Committee Management Officer, National Aeronautics and Space Administration.

[FR Doc. 2015-29767 Filed 11-20-15; 8:45 am]

BILLING CODE 7510-13-P